DEPARTMENT OF HOMELAND SECURITY

Transportation Security Administration

49 CFR Parts 1515, 1570, and 1572

Coast Guard

33 CFR Parts 101, 103, 104, 105, 106, and 125; 46 CFR Parts 10, 12, and 15

[Docket Nos. TSA-2006-24191; USCG-2006-24196]

RIN 1652-AA41

Transportation Worker Identification Credential (TWIC) Implementation in the Maritime Sector; Hazardous Materials Endorsement for a Commercial Driver's License

AGENCY: Transportation Security Administration, United States Coast Guard, DHS.

ACTION: Proposed rule; notice of comment.

SUMMARY: The Department of Homeland Security, through the Transportation Security Administration and the United States Coast Guard, published an Notice of Proposed Rulemaking titled “Transportation Worker Identification Credential (TWIC) Implementation in the Maritime Sector; Hazardous Materials Endorsement for a Commercial Driver's License” on May 22, 2006. In response to letters from Congress about the proposed rule, we sent out the letter below and want to make the public aware of this correspondence.

ADDRESSES: Copies of this Notice as well as the Notice of Proposed Rulemaking and Comments received are all available in the dockets for this rulemaking. The dockets are available electronically at http://dms.dot.gov as well as at the Docket Management Facility located in the U.S. Department of Transportation, 400 Seventh Street, SW., Washington, DC 20590-0001. The dockets may be located by the following docket numbers: TSA docket number TSA-2006-24191 or Coast Guard docket number USCG-2006-24196.

FOR FURTHER INFORMATION CONTACT: For questions related to TSA's proposed TWIC standards: Greg Fisher, Transportation Security Administration, 601 South 12th Street, Arlington, VA 22202-4220, TWIC Program, 571-227-4545; e-mail: credentialing@dhs.gov.

For legal questions regarding the proposed TWIC rule: Christine Beyer, TSA-2, Transportation Security Administration, 601 South 12th Street, Arlington, VA 22202-4220; telephone (571) 227-2657; facsimile (571) 571-1380; e-mail Christine.Beyer@dhs.gov.

For questions concerning the Coast Guard provisions of the proposed TWIC rule: LCDR Jonathan Maiorine, Commandant (G-PCP-2), United States Coast Guard, 2100 Second Street, SW., Washington, DC 20593; telephone 1-877-687-2243.

For questions concerning viewing or submitting material to the docket: Renee V. Wright, Program Manager, Docket Management System, U.S. Department of Transportation, Room Plaza 401, 400 Seventh Street, SW., Washington, DC 20590-0001; telephone (202) 493-0402.

SUPPLEMENTARY INFORMATION: On May 22, 2006, the Transportation Security Administration (TSA) and the United States Coast Guard (Coast Guard) published a joint Notice of Proposed Rulemaking in the Federal Register titled “Transportation Worker Identification Credential (TWIC) Implementation in the Maritime Sector; Hazardous Materials Endorsement for a Commercial Driver's License.” 71 FR 29396. This NPRM included a 45-day comment period and announced four public meetings to be held in Newark, NJ, Tampa, FL, St. Louis, MO, and Long Beach, CA.

Since that time, TSA and Coast Guard have received several letters from Members of Congress on the NPRM. We recently responded to these letters and wanted to share our response with the public. The body of the letter, which can also be found in the dockets for this rulemaking, reads as follows:

Thank you for your comments on the Notice of Proposed Rulemaking (NPRM) entitled “Transportation Worker Identification Credential (TWIC) Implementation in the Maritime Sector; Hazardous Materials Endorsement for a Commercial Driver's License” and “Consolidation of Merchant Mariner Qualification Credentials” published in the Federal Register on May 22, 2006. Your comments, perspectives and recommendations are very important in the consideration of these rulemakings and in determining the best way forward with the TWIC and associated requirements.

The Coast Guard and the Transportation Security Administration (TSA) received a number of requests similar to yours seeking additional time to comment on the proposed rules. Many of these comments also voiced concern regarding card and reader technology, analysis of economic impact, potential negative impacts to commerce, and uncertainty as to how TWIC requirements for facilities and vessels could be met.

After a review of the comments received during the comment period and the requests for extension, TSA and the Coast Guard decided not to extend the comment period for the NPRM. However, TSA and Coast Guard have concluded that facility and vessel owners and operators will not be required to purchase or install card readers during the first phase of the TWIC implementation. Additionally, a requirement to purchase and install card readers will not be implemented until the public is afforded further opportunity to comment on that aspect of the TWIC program. The details of this approach will be explained in the next rulemaking.

Thank you again for your comments on these proposed rulemakings. The views expressed by you and your constituents will assist and inform us in our decision-making process on this important effort.

Dated: August 16, 2006.
Craig Bone,
Rear Admiral, Assistant Commandant for Prevention, United States Coast Guard.
Dated: August 16, 2006.
Stephanie Rowe,
Assistant Administrator, Transportation Security Administration.

[FR Doc. 06-7055 Filed 8-17-06; 8:45 am]

BILLING CODE 4910-15-P